DEPARTMENT OF HOMELAND SECURITY

Federal Emergency Management Agency

[Docket ID FEMA-2017-0002; Internal Agency Docket No. FEMA-B-1702]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Roy E. Wright,
Deputy Associate Administrator for Insurance and Mitigation, Department of Homeland Security, Federal Emergency Management Agency.

State and county | Location and case No. | Chief executive officer of community | Community map repository | Online location of map revision | Effective date of modification | Community No.
Alaska: Kenai Peninsula Borough | City of Homer (17-10-0041P) | The Honorable Bryan Zak, Mayor, City of Homer, 2525 Sterling Highway, Homer, AK 99603 | City of Homer Planning and Zoning Office, 491 East Pioneer Avenue, Homer, AK 99603 | http://www.msc.fema.gov/lomc | Mar. 31, 2017 | 020107
Arizona:
Maricopa | City of Surprise (16-09-1336P) | The Honorable Sharon Wolcott, Mayor, City of Surprise, 16000 North Civic Center Plaza, Surprise, AZ 85374 | Public Works Department, 16000 North Civic Center Plaza, Surprise, AZ 85374 | http://www.msc.fema.gov/lomc | Apr. 14, 2017 | 040053
Pima | Unincorporated Areas of Pima County (16-09-1770P) | The Honorable Sharon Bronson, Chair, Board of Supervisors, Pima County, 130 West Congress Street, 11th Floor, Tucson, AZ 85701 | Pima County Flood Control District, 201 North Stone Avenue, 9th Floor, Tucson, AZ 85701 | http://www.msc.fema.gov/lomc | Mar. 21, 2017 | 040073
Pima | Unincorporated Areas of Pima County (16-09-1863P) | The Honorable Sharon Bronson, Chair, Board of Supervisors, Pima County, 130 West Congress Street, 11th Floor, Tucson, AZ 85701 | Pima County Flood Control District, 201 North Stone Avenue, 9th Floor, Tucson, AZ 85701 | http://www.msc.fema.gov/lomc | Apr. 4, 2017 | 040073
Pinal | City of Coolidge (16-09-1229P) | The Honorable Jon Thompson, Mayor, City of Coolidge, 130 West Central Avenue, Coolidge, AZ 85228 | City Hall, 130 West Central Avenue, Coolidge, AZ 85228 | http://www.msc.fema.gov/lomc | May 4, 2017 | 040082
Pinal | Unincorporated Areas of Pinal County (16-09-1229P) | The Honorable Cheryl Chase, Chair, Board of Supervisors, Pinal County, 135 North Pinal Street, Florence, AZ 85132 | Pinal County Engineering Department, 31 North Pinal Street, Building F, Florence, AZ 85132 | http://www.msc.fema.gov/lomc | May 4, 2017 | 040077
California:
San Diego | City of Escondido (16-09-2974P) | The Honorable Sam Abed, Mayor, City of Escondido, 201 North Broadway, Escondido, CA 92025 | City Hall, 201 North Broadway, Escondido, CA 92025 | http://www.msc.fema.gov/lomc | Apr. 18, 2017 | 060290
San Diego | City of Oceanside (16-09-1302P) | The Honorable Jim Wood, Mayor, City of Oceanside, 300 North Coast Highway, Oceanside, CA 92054 | City Hall, 300 North Coast Highway, Oceanside, CA 92054 | http://www.msc.fema.gov/lomc | Apr. 13, 2017 | 060294
San Diego | Unincorporated Areas of San Diego County (16-09-1695P) | The Honorable Ron Roberts, Chairman, Board of Supervisors, San Diego County, 1600 Pacific Highway, Room 335, San Diego, CA 92101 | Department of Public Works, Flood Control, 5510 Overland Avenue, Suite 410, San Diego, CA 92123 | http://www.msc.fema.gov/lomc | Mar. 28, 2017 | 060284
San Diego | Unincorporated Areas of San Diego County (16-09-2974P) | The Honorable Ron Roberts, Chairman, Board of Supervisors, San Diego County, 1600 Pacific Highway, Room 335, San Diego, CA 92101 | Department of Public Works, Flood Control, 5510 Overland Avenue, Suite 410, San Diego, CA 92123 | http://www.msc.fema.gov/lomc | Apr. 18, 2017 | 060284
San Joaquin | City of Lathrop (16-09-1660P) | The Honorable Sonny Dhaliwal, Mayor, City of Lathrop, 390 Towne Center Drive, Lathrop, CA 95330 | City Hall, 390 Towne Center Drive, Lathrop, CA 95330 | http://www.msc.fema.gov/lomc | Apr. 19, 2017 | 060738
San Joaquin | Unincorporated Areas of San Joaquin County (16-09-2052P) | The Honorable Moses Zapien, Chairman, Board of Supervisors, San Joaquin County, 44 North San Joaquin Street, Suite 627, Stockton, CA 95202 | San Joaquin County, Stockton Courthouse, 222 East Weber Avenue, Stockton, CA 95202 | http://www.msc.fema.gov/lomc | Apr. 14, 2017 | 060299
Ventura | Unincorporated Areas of Ventura County (16-09-2395P) | The Honorable Kathy I. Long, Chair, Board of Supervisors, Ventura County, 800 South Victoria Avenue, Ventura, CA 93009 | Ventura County, Hall of Administration, 800 South Victoria Avenue, Ventura, CA 93009 | http://www.msc.fema.gov/lomc | May 4, 2017 | 060413
Hawaii: Maui | Maui County (16-09-2405P) | The Honorable Alan M. Arakawa, Mayor, Maui County, 200 South High Street, Kalana O Maui Building, 9th Floor, Wailuku, HI 96793 | County of Maui Planning Department, 2200 Main Street, Suite 315, Wailuku, HI 96793 | http://www.msc.fema.gov/lomc | Apr. 27, 2017 | 150003
Illinois: McLean | Unincorporated Areas of McLean County (15-05-5246P) | The Honorable John McIntyre, Chairman, McLean County Board, 115 East Washington Street, Room 401, Bloomington, IL 61701 | McLean County, Building and Zoning Department, 115 East Washington Street, Room M102, Bloomington, IL 61701 | http://www.msc.fema.gov/lomc | Apr. 28, 2017 | 170931
Iowa:
Woodbury | City of Sioux City (16-07-1823P) | The Honorable Bob Scott, Mayor, City of Sioux City, P.O. Box 447, Sioux City, IA 51102 | City Hall, Planning Division, 405 6th Street, Sioux City, IA 51102 | http://www.msc.fema.gov/lomc | Apr. 7, 2017 | 190298
Woodbury | Unincorporated Areas of Woodbury County (16-07-1823P) | Mr. Jeremy Taylor, Woodbury County Chairperson, 620 Douglas Street, Room 104, Sioux City, IA 51101 | Woodbury County Courthouse, Office of Planning and Zoning, 620 Douglas Street, Sioux City, IA 51101 | http://www.msc.fema.gov/lomc | Apr. 7, 2017 | 190536
Michigan: Bay | City of Bay City (16-05-5551P) | The Honorable Kathleen L. Newsham, Mayor, City of Bay City, 409 North Linn Street, Bay City, MI 48706 | City Hall, 301 Washington Avenue, Bay City, MI 48708 | http://www.msc.fema.gov/lomc | Mar. 10, 2017 | 260020
Nevada:
Clark | City of Henderson (17-09-0011P) | The Honorable Andy A. Hafen, Mayor, City of Henderson, City Hall, 240 South Water Street, Henderson, NV 89015 | Public Works Department, 240 South Water Street, Henderson, NV 89015 | http://www.msc.fema.gov/lomc | Apr. 28, 2017 | 320005
Elko | City of Elko (16-09-0367P) | The Honorable Chris J. Johnson, Mayor, City of Elko, 1751 College Avenue, Elko, NV 89801 | Development Department, 1755 College Avenue, Elko, NV 89801 | http://www.msc.fema.gov/lomc | Apr. 3, 2017 | 320010
Ohio: Lucas | City of Toledo (16-05-5662P) | The Honorable Paula Hicks-Hudson, Mayor, City of Toledo, 1 Government Center, Suite 2200, Toledo, OH 43604 | Department of Inspection, 1 Government Center, Suite 1600, Toledo, OH 43604 | http://www.msc.fema.gov/lomc | May 5, 2017 | 395373
Oregon: Washington | City of Beaverton (16-10-1547P) | The Honorable Denny Doyle, Mayor, City of Beaverton, The Beaverton Building, 12725 Southwest Millikan Way, Beaverton, OR 97005 | Community Development Department, 4755 Southwest Griffith Drive, Beaverton, OR 97005 | http://www.msc.fema.gov/lomc | Apr. 7, 2017 | 410240
Washington:
Island | Unincorporated Areas of Island County (16-10-1381P) | The Honorable Richard Hannold, Chair, Island County Commissioners, 1 Northeast 7th Street, Room 214, Coupeville, WA 98239 | Island County Courthouse Annex, 1 Northeast 6th Street, Coupeville, WA 98239 | http://www.msc.fema.gov/lomc | Mar. 8, 2017 | 530312
Island | Unincorporated Areas of Island County (16-10-1641P) | The Honorable Richard Hannold, Chair, Island County Commissioners, 1 Northeast 7th Street Room 214, Coupeville, WA 98239 | Island County Courthouse Annex, 1 Northeast 6th Street, Coupeville, WA 98239 | http://www.msc.fema.gov/lomc | Apr. 20, 2017 | 530312
Wisconsin:
Dane | City of Verona (16-05-6316P) | The Honorable Jon Hochkammer, Mayor, City of Verona, City Hall, 111 Lincoln Street, Verona, WI 53593 | City Hall, 111 Lincoln Street, Verona, WI 53593 | http://www.msc.fema.gov/lomc | Apr. 14, 2017 | 550092
Dane | Unincorporated Areas of Dane County (16-05-6316P) | Mr. Joe Parisi, County Executive, Dane County, City County Building, 210 Martin Luther King Jr. Boulevard, Room 421, Madison, WI 53703 | City County Building, 210 Martin Luther King Jr. Boulevard, Room 116, Madison, WI 53703 | http://www.msc.fema.gov/lomc | Apr. 14, 2017 | 550077

[FR Doc. 2017-04897 Filed 3-10-17; 8:45 am]

BILLING CODE 9110-12-P